FEDERAL DEPOSIT INSURANCE CORPORATION

[OMB No. 3064-0121]

Agency Information Collection Activities: Proposed Collection Renewal; Comment Request

AGENCY: Federal Deposit Insurance Corporation (FDIC).

ACTION: Notice and request for comment.

SUMMARY: The FDIC, as part of its obligations under the Paperwork Reduction Act of 1995, invites the general public and other Federal agencies to take this opportunity to comment on the request to renew the existing information collection described below (OMB Control No. 3064-0121). The notice of proposed renewal for this information collection was previously published in the Federal Register on December 9, 2024, allowing for a 60-day comment period.

DATES: Comments must be submitted on or before April 2, 2025.

ADDRESSES: Interested parties are invited to submit written comments to the FDIC by any of the following methods:

• Agency Website: https://www.fdic.gov/resources/regulations/federal-register-publications/.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street NW building (located on F Street NW), on business days between 7 a.m. and 5 p.m.

Written comments and recommendations for the proposed information collection should be sent within 30 days of publication of this notice to www.reginfo.gov/public/do/PRAMain. Find this particular information collection by selecting “Currently under 30-day Review—Open for Public Comments” or by using the search function.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION:

Proposal to renew the following currently approved collection of information:

1. Title: Certification of Compliance with Mandatory Bars to Employment.

OMB Number: 3064-0121.

Form Number: 2120/16.

Affected Public: Individuals seeking employment from the FDIC.

Burden Estimate:

Summary of Estimated Annual Burden (OMB No. 3064-0121)
Information collection (IC) (obligation to respond) | Type of burden (frequency of response) | Number of respondents | Number of responses per respondent | Time per response (HH:MM) | Annual burden (hours)
1. Form 2120/16, (Mandatory) | Reporting (Annual) | 866 | 1 | 00:10 | 144
Total Annual Burden (Hours) |  |  |  |  | 144
Source: FDIC.

General Description of Collection: This information collection arises from the reporting requirements contained in 12 CFR part 336, subpart B, of the FDIC Rules and Regulations entitled “Minimum Standards of Fitness for Employment with the Federal Deposit Insurance Corporation.” This rule implements Section 19 of the Resolution Trust Corporation Completion Act, Public Law 103-204, by (among other things) prescribing a certification, with attachments in some cases, relating to job applicants' fitness and integrity. More specifically, the statute provides that the FDIC shall issue regulations implementing provisions that prohibit any person from becoming employed by the FDIC who has been convicted of any felony; has been removed from, or prohibited from participating in the affairs of, any insured depository institution pursuant to any final enforcement action by any appropriate federal banking agency; has demonstrated a pattern or practice of defalcation regarding obligations to insured depository institutions; or has caused a substantial loss to federal deposit insurance funds. This collection of information implements these mandatory bars to employment through a certification, signed by job applicants prior to an offer of employment using Form 2120/16. There is no change in the methodology or substance of this information collection. The increase in total estimated annual burden from 88 hours in 2022 to 144 hours in this renewal is due to an increase in estimated number of respondents. We are renewing on the PRA-required 3-year renewal schedule despite the current Federal hiring freeze to ensure the FDIC can resume collecting this information from job applicants when the freeze is lifted.

Request for Comment

Comments are invited on (a) whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Federal Deposit Insurance Corporation.
Dated at Washington, DC, February 26, 2025.
Jennifer M. Jones,
Deputy Executive Secretary.

[FR Doc. 2025-03384 Filed 2-28-25; 8:45 am]

BILLING CODE 6714-01-P